DEPARTMENT OF AGRICULTURE

Submission for OMB Review; Comment Request

October 5, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Unshu Oranges.

OMB Control Number: 0579-0173.

Summary of Collection: The Plant Protection Act (7 U.S.C. 7701-7772) authorizes the Secretary of Agriculture to restrict the importation, entry or interstate movement of plants, plant products, and other articles to prevent the introduction of plant pest in the United States. The regulations in “Subpart-Citrus Fruit” (7 CFR 319.28) allow the importation of unshu oranges from Kyushu Island and Honshu Island, Japan, into the United States under certain conditions. A certificate must accompany the unshu oranges from the Japanese plant protection service certifying that the fruit is apparently free of citrus canker.

Need and Use of the Information: The Animal and Plant Health Inspection (APHIS) will collect information using form PPQ 203, Foreign Site Certificate of Inspection and/or Treatment, PPQ 587, Application for Permit to Import Plants or Plant Products and box labeling. The information from the forms will be used to certify that unshu oranges from Japan are free of citrus canker and to also ensure that the oranges are not imported into citrus-producing areas of the United States such as Florida and California. Failing to collect this information would cripple APHIS' ability to ensure that Unshu oranges from Japan are not carrying citrus canker.

Description of Respondents: Business or other for-profit; State, Local or Tribal Government.

Number of Respondents: 23.

Frequency of Responses: Reporting: On occasion.

Total Burden Hours: 5,535.

Animal and Plant Health Inspection Service

Title: Citrus Greening and Asian Citrus Psylid; Quarantine and Interstate Movement Regulations.

OMB Control Number: 0579-0363.

Summary of Collection: The Plant Protection Act (7 U.S.C. 7701 et seq.) authorizes the Secretary of Agriculture either independently or in cooperation with the States, to carry out operations or measures to detect, eradicate, suppress, control, prevent, or retard the spread of plant pests (such as citrus canker) new or widely distributed throughout the United States. The Animal and Plant Health Inspection Service (APHIS) amended the “Domestic Quarantine Notices” in 7 CFR part 301 by adding a new subpart, “Citrus Greening and Asian Citrus Psylid (ACP)” (§§ 301.76 through 301.76-11). Citrus greening, also known as Huanglonghing disease of citrus, is considered to be one of the most serious citrus diseases in the world.

Need and Use of the Information: APHIS will collect information using various forms to address the risk associated with the interstate movement of citrus nursery stock and other regulated articles from areas quarantined for citrus greening. Failing to collect this information could cause a severe economic loss to the citrus industry.

Description of Respondents: Business or other for-profit.

Number of Respondents: 116.

Frequency of Responses: Recordkeeping; Reporting: On occasion.

Total Burden Hours: 504.

Ruth Brown,
Departmental Information Collection Clearance Officer.

[FR Doc. 2010-25490 Filed 10-8-10; 8:45 am]

BILLING CODE 3410-34-P